DEPARTMENT OF ENERGY

Federal Energy Regulatory Commission

Combined Notice of Filings #1

Take notice that the Commission received the following electric rate filings:

Docket Numbers: ER16-1923-000.

Applicants: Midcontinent Independent System Operator, Inc.

Description: Midcontinent Independent System Operator, Inc. submits tariff filing per 35.19a(b): Refund Report (ER16-1923-000 and -002) to be effective N/A.

Filed Date: 7/21/17.

Accession Number: 20170721-5120.

Comments Due: 5 p.m. ET 8/11/17.

Docket Numbers: ER17-2029-001.

Applicants: Entergy Arkansas, Inc.

Description: Tariff Amendment: EAI-ESI Reimbursement Agreement Extension to be effective 12/31/9998.

Filed Date: 7/20/17.

Accession Number: 20170720-5136.

Comments Due: 5 p.m. ET 8/10/17.

Docket Numbers: ER17-2030-001.

Applicants: Entergy Louisiana, LLC.

Description: Tariff Amendment: ELL-ESI Reimbursement Agreement Extemsion to be effective 12/31/9998.

Filed Date: 7/20/17.

Accession Number: 20170720-5138.

Comments Due: 5 p.m. ET 8/10/17.

Docket Numbers: ER17-2031-001.

Applicants: Entergy Mississippi, Inc.

Description: Tariff Amendment: EMI-ESI Reimbursement Agreement Extension to be effective 12/31/9998.

Filed Date: 7/20/17.

Accession Number: 20170720-5139.

Comments Due: 5 p.m. ET 8/10/17.

Docket Numbers: ER17-2033-001.

Applicants: Entergy New Orleans, Inc.

Description: Tariff Amendment: ENO-ESI Reimbursement Agreement to be effective 12/31/9998.

Filed Date: 7/20/17.

Accession Number: 20170720-5140.

Comments Due: 5 p.m. ET 8/10/17.

Docket Numbers: ER17-2034-001.

Applicants: Entergy Texas, Inc.

Description: Tariff Amendment: ETI-ESI Reimbursement Agreement to be effective 12/31/9998.

Filed Date: 7/20/17.

Accession Number: 20170720-5141.

Comments Due: 5 p.m. ET 8/10/17.

Docket Numbers: ER17-2115-000.

Applicants: Northern States Power Company, a Minnesota corporation.

Description: § 205(d) Rate Filing: NSPM Concurrence to OTP RS 110, Suppl No. 3 to be effective 4/16/2016.

Filed Date: 7/21/17.

Accession Number: 20170721-5001.

Comments Due: 5 p.m. ET 8/11/17.

Docket Numbers: ER17-2116-000.

Applicants: Midcontinent Independent System Operator Inc., ITC Midwest LLC.

Description: § 205(d) Rate Filing: 2017-07-21_Revisions to ITCM Attachment O for Abandoned Plant Incentive to be effective 9/20/2017.

Filed Date: 7/21/17.

Accession Number: 20170721-5040.

Comments Due: 5 p.m. ET 8/11/17.

Docket Numbers: ER17-2118-000.

Applicants: ISO New England Inc., New England Power Pool Participants Comm.

Description: § 205(d) Rate Filing: Rev. to Sec. II.44(1)(a) to Conform with Day-Ahead Energy Mkt. Sched. Timeline to be effective 9/20/2017.

Filed Date: 7/21/17.

Accession Number: 20170721-5092.

Comments Due: 5 p.m. ET 8/11/17.

Docket Numbers: ER17-2119-000.

Applicants: Energy Consulting Services, LLC.

Description: Notice of cancellation of Market-Based Rate Tariff of Energy Consulting Services, LLC.

Filed Date: 7/19/17.

Accession Number: 20170720-0015.

Comments Due: 5 p.m. ET 8/9/17.

Take notice that the Commission received the following foreign utility company status filings:

Docket Numbers: FC17-4-000.

Applicants: I Squared Capital.

Description: Self-Certification of FUCO on behalf of Orazul Companies.

Filed Date: 7/21/17.

Accession Number: 20170721-5066.

Comments Due: 5 p.m. ET 8/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2017.
Kimberly D. Bose,
Secretary.

[FR Doc. 2017-15912 Filed 7-27-17; 8:45 am]

BILLING CODE 6717-01-P